DEPARTMENT OF THE INTERIOR

Bureau of Land Management

[LLMT9240000-L14400000.ET0000 16X L1109AF; MO# 4500094275; MTM 40614 and MTM 40633]

Public Land Order No. 7860; Partial Revocation of a Secretarial Order and a Bureau of Reclamation Order; Montana

AGENCY: Bureau of Land Management, Interior.

ACTION: Public land order.

SUMMARY: This order partially revokes a withdrawal created by a Secretarial Order and a Bureau of Reclamation Order, insofar as they affect 2,643.25 acres withdrawn for the Bureau of Reclamation's Lonesome Lake Reservoir, a sub-unit of the Pick-Sloan Missouri Basin Program. The Bureau of Reclamation has determined that the lands are no longer needed for reclamation purposes.

DATES: This public land order is effective on January 17, 2017.

FOR FURTHER INFORMATION CONTACT: Cynthia Eide, Bureau of Land Management, Montana/Dakotas State Office, 5001 Southgate Drive, Billings, Montana 59101-4669; telephone 406-896-5094. Persons who use a telecommunications device for the deaf (TDD) may call the Federal Relay Service (FRS) at 1-800-877-8339 to contact the above individual. FRS is available 24 hours a day, 7 days a week, to leave a message or question with the above individual. You will receive a reply during normal business hours.

SUPPLEMENTARY INFORMATION: The Bureau of Reclamation has determined that the lands are no longer needed for reclamation purposes. The revocation is needed to allow for a majority of the lands to be conveyed to the State of Montana under a State Indemnity Selection application. Any lands not conveyed to the State, except 3.25 acres included in an overlapping withdrawal, will be restored to the administration of the Bureau of Land Management. In the event any lands described in Paragraphs 1 and 2 below are not conveyed to the State, those lands will remain segregated from location and entry under the United States mining laws unless later opened by publication of an opening order in accordance with applicable law.

Order

By virtue of the authority vested in the Secretary of the Interior by Section 204 of the Federal Land Policy and Management Act of 1976, 43 U.S.C. 1714, it is ordered as follows:

1. The Secretarial Order dated October 15, 1904, which withdrew public lands on behalf of the Bureau of Reclamation for the Lonesome Lake Reservoir Site, is hereby partially revoked insofar as it affects the following described lands:

Principal Meridian, Montana

T. 29 N., R. 11 E.,

Sec. 21, N½NE¼ and N½NW¼;

Sec. 22, NW¼NW¼.

T. 29 N., R. 12 E.,

Sec. 9, W½ and SE¼;

Sec. 21, N½, SW¼, N½SE¼, and SW¼SE¼;

Sec. 22;

Sec. 28, W½;

Sec. 29, E½NE¼ and E½SE¼.

T. 30 N., R. 12 E.,

Sec. 35, S½SE¼.

The areas described aggregate 2,480 acres in Chouteau and Hill Counties.

2. The Bureau of Reclamation Order dated March 30, 1950, which withdrew public lands for the Lonesome Lake Reservoir Site, is hereby partially revoked insofar as it affects the following described lands:

Principal Meridian, Montana

T. 29 N., R. 7 E.,

Sec. 17, lot 14.

T. 29 N., R. 12 E.,

Sec. 24, SW¼SE¼;

Sec. 25, NW¼NW¼.

T. 30 N., R. 12 E.,

Sec. 35, N½SE¼.

The areas described aggregate 163.25 acres in Chouteau, Hill, and Liberty Counties.

3. All of the lands described in Paragraphs 1 and 2, except for the 80.00 acres described in Paragraph 4 below, are hereby opened for disposal through State Indemnity Selection, but remain segregated from location and entry under the United States mining laws due to a State Indemnity Selection application.

4. At 9 a.m. on February 16, 2017, the following described lands will be restored to management by the Bureau of Land Management and are opened to the operation of the public land laws generally, subject to valid existing rights, the provisions of existing withdrawals, other segregations of record, and the requirements of applicable law. All valid applications received at or prior to 9 a.m. on February 16, 2017, shall be considered as simultaneously filed at that time. Those received thereafter shall be considered in the order of filing.

Principal Meridian, Montana

T. 29 N., R. 12 E.,

Sec. 24, SW¼SE¼;

Sec. 25, NW¼NW¼.

The areas described aggregate 80.00 acres in Chouteau County.

5. At 9 a.m. on February 16, 2017, the lands described in Paragraph 4 will be opened to location and entry under the United States mining laws, subject to valid existing rights, the provision of existing withdrawals, other segregations of record, and the requirements of applicable law. The lands have been and will remain open to mineral leasing. Appropriation of any of the lands described in this order under the general mining laws prior to the date and time of restoration is unauthorized. Any such attempted appropriation, including attempting adverse possession under 30 U.S.C. 38, shall vest no rights against the United States. Acts required to establish a location and to initiate a right of possession are governed by state law where not in conflict with Federal law. The Bureau of Land Management will not intervene in disputes between rival locators over possessory rights since Congress has provided for such determinations in local courts.

Dated: January 9, 2017.
Janice M. Schneider,
Assistant Secretary—Land and Minerals Management.

[FR Doc. 2017-00835 Filed 1-13-17; 8:45 am]

BILLING CODE 4310-DN-P